DEPARTMENT OF THE INTERIOR

National Park Service

[NPS-WASO-NAGPRA-NPS0035689; PPWOCRADN0-PCU00RP14.R50000]

Notice of Inventory Completion: The Fort Ticonderoga Association, Ticonderoga, NY

AGENCY: National Park Service, Interior.

ACTION: Notice.

SUMMARY: In accordance with the Native American Graves Protection and Repatriation Act (NAGPRA), The Fort Ticonderoga Association has completed an inventory of human remains and associated funerary objects and has determined that there is a cultural affiliation between the human remains and associated funerary objects and Indian Tribes in this notice. The human remains and associated funerary objects were removed from Addison County, VT.

DATES: Repatriation of the human remains and associated funerary objects in this notice may occur on or after May 22, 2023.

ADDRESSES: Margaret Staudter, The Fort Ticonderoga Association, 30 Fort Ti Rd., Ticonderoga, NY 12883, telephone (518) 585-1015, email mstaudter@fort-ticonderoga.org.

SUPPLEMENTARY INFORMATION: This notice is published as part of the National Park Service's administrative responsibilities under NAGPRA. The determinations in this notice are the sole responsibility of The Fort Ticonderoga Association. The National Park Service is not responsible for the determinations in this notice. Additional information on the determinations in this notice, including the results of consultation, can be found in the inventory or related records held by The Fort Ticonderoga Association.

Description

Human remains representing, at minimum, five individuals were removed from the East Creek site (VT-AD-0012) in Addison County, VT. From 1933 to 1935, and possibly in 1936, Godfrey Olsen led summer excavations on behalf of the Heye Foundation/Museum of the American Indian (MAI) at the East Creek site. In 1933 and 1937, George Heye gifted Fort Ticonderoga's co-founder Stephen Pell a selection of items from the Olsen excavation. In 1937, the Champlain Valley Archaeological Society (CVAS), under H. Jermain Slocum, returned to the site and removed the human remains and additional associated funerary objects from areas that had been excavated during the Heye Foundation excavations. The 36 associated funerary objects are one lot of acorns (EC.49.1), one lot of alligator teeth (EC.1.1), one lot of bifaces (EC.24; EC.25; EC.26; EC.27; EC.28; EC.29; EC.30; EC.31; EC.32; EC.33; EC.34; EC.35; EC.36; EC.37; EC.38; EC.39; EC.40; EC.41; EC.42; EC.43; EC.45; EC.46; EC.63), one fragment of birch bark (EC.15.1), one stone celt (EC.64), three lots of copper beads (EC.16.1; EC.18.1; EC.19; EC.21.1), one lot of copper wires (EC.16.2), one lot of debitage (EC.47; EC.48), one deer bone (EC.51.4), one deer skull (EC.4.1), one lot of chert drills (EC.53.1; EC.9), one lot of fish vertebrae (EC.50.1), one lot of stone flakes (EC.12.1), one lot of hammerstones (EC.2.1; EC.59; EC.61.1; EC.62), one fragment of hickory bark (EC.15.2), one lot of mammal bone (EC.51.1; EC.65.1), one lot of mixed material (EC.11), one paint stone (EC.58.1), one lot of stone projectile points (EC.13; EC.2.3; EC.22.1; EC.22.2; EC.22.3; EC.22.4; EC.22.5; EC.22.6; EC.22.7; EC.22.8; EC.22.9; EC.23.1; EC.23.2; EC.23.3; EC.23.4; EC.23.5; EC.23.6; EC.3.1; EC.54.1; EC.55.1; EC.55.2; EC.55.3; EC.55.4; EC.55.5; EC.55.6; EC.56.1; EC.56.10; EC.56.11; EC.56.12; EC.56.13; EC.56.14; EC.56.15; EC.56.17; EC.56.18; EC.56.19; EC.56.2; EC.56.20; EC.56.21; EC.56.3; EC.56.4; EC.56.5; EC.56.6; EC.56.7; EC.56.8; EC.56.9), four lots of red ochre (EC.14.1; EC.17.1; EC.6.1; EC.6.2), one sandstone object (EC.2.2), one lot of scrapers (EC.52; EC.56.16), one lot of shark teeth (EC.8), one lot of clay sherds (EC.12.3; EC.5.1; EC.5.2; EC.5.3; EC.66; EC.67; EC.68; EC.69.1; EC.69.3; EC.69.4; EC.69.5; EC.69.6; EC.69.7; EC.69.8), one squirrel bone (EC.51.2), one lot of stone fragments (EC.3.2), one tube pipe (EC.7.1), one tube pipe plug (EC.20.1), one lot of turtle bones (EC.51.3), one lot of utilized lithics (EC.44), and one whetstone (EC.57.1).

Cultural Affiliation

The human remains and associated funerary objects in this notice are connected to one or more identifiable earlier groups, tribes, peoples, or cultures. There is a relationship of shared group identity between the identifiable earlier groups, tribes, peoples, or cultures and one or more Indian Tribes. The following types of information were used to reasonably trace the relationship: archeological, geographical, historical, oral traditional, and expert opinion.

Determinations

Pursuant to NAGPRA and its implementing regulations, and after consultation with the appropriate Indian Tribes, The Fort Ticonderoga Association has determined that:

• The human remains described in this notice represent the physical remains of five individuals of Native American ancestry.

• The 36 objects described in this notice are reasonably believed to have been placed with or near individual human remains at the time of death or later as part of the death rite or ceremony.

• There is a relationship of shared group identity that can be reasonably traced between the human remains and associated funerary objects described in this notice and the Cayuga Nation; Delaware Nation, Oklahoma; Oneida Indian Nation; Oneida Nation; Onondaga Nation; Saint Regis Mohawk Tribe; Seneca Nation of Indians; Seneca-Cayuga Nation; Stockbridge Munsee Community, Wisconsin; Tonawanda Band of Seneca; and the Tuscarora Nation.

Requests for Repatriation

Written requests for repatriation of the human remains and associated funerary objects in this notice must be sent to the Responsible Official identified in ADDRESSES. Requests for repatriation may be submitted by:

1. Any one or more of the Indian Tribes identified in this notice.

2. Any lineal descendant or Indian Tribe not identified in this notice who shows, by a preponderance of the evidence, that the requestor is a lineal descendant or a culturally affiliated Indian Tribe.

Repatriation of the human remains and associated funerary objects in this notice to a requestor may occur on or after May 22, 2023. If competing requests for repatriation are received, the Fort Ticonderoga Association must determine the most appropriate requestor prior to repatriation. Requests for joint repatriation of the human remains and associated funerary objects are considered a single request and not competing requests. The Fort Ticonderoga Association is responsible for sending a copy of this notice to the Indian Tribes identified in this notice.

Authority: Native American Graves Protection and Repatriation Act, 25 U.S.C. 3003, and the implementing regulations, 43 CFR 10.9, 10.10, and 10.14.

Dated: April 10, 2023.
Melanie O'Brien,
Manager, National NAGPRA Program.

[FR Doc. 2023-08335 Filed 4-19-23; 8:45 am]

BILLING CODE 4312-52-P